DEPARTMENT OF HEALTH AND HUMAN SERVICES

National Institutes of Health

Prospect Grant of Exclusive License: Therapeutic and Diagnostic Uses of Novel Thiolesters for HIV and Other Applications

AGENCY: National Institutes of Health, Public Health Service, DHHS.

ACTION: Notice.

SUMMARY: This is notice in accordance with 35 U.S.C. 209 (c)(1) and 37 CFR 404.7 (a) (1) (i) that the National Institutes of Health (NIH), Department of Health and Human Services (DHHS), is contemplating the grant of an exclusive license worldwide to practice the inventions embodied in patents under “Supplementary Information” to Achillion Pharmaceuticals, Inc., having a place of business in New Haven, Connecticut. The patent rights in these inventions have been assigned to the government of the United States of America.

DATES: Only written comments and/or license applications which are received by the NIH Office of Technology Transfer on or before June 19, 2000 will be considered.

ADDRESSES: Requests for a copy of these patent applications, inquiries, comments, and other materials relating to the contemplated license should be directed to: Mr. J.P. Kim, Technology Licensing Specialist, Office of Technology Transfer, National Institutes of Health, 6011 Executive Boulevard, Suite 325, Rockville, Maryland 20852-3804; Telephone: (301) 496-7056, ext. 264; Facsimile: (301) 402-0220. A signed Confidential Disclosure Agreement (CDA) may be required to receive copies of the patent application.

SUPPLEMENTARY INFORMATION: The patent applications to be licensed are: “Novel Thiolesters and Uses Thereof”, U.S. Provisional Patent Application Serial No. 60/089,842, filing date 06/19/1998, “Novel Thiolesters and Uses Thereof”, PCT International Patent Application No. PCT/US99/13856, International Filing Date 06/18/1999.

The zinc finger has been found in many proteins and in a great variety of species (e.g., the zinc finger structure can be found in the human immunodeficiency virus (HIV)). In viruses, the zinc-binding domains of nucleocapsid proteins have been identified as being involved in both early and late phases of viral replication, thus making them potentially attractive targets for antiviral agents.

The present invention provides for a novel family of thiolesters and uses thereof. These thiolesters are capable of inactivating viruses and other agents by a variety of mechanisms, particularly by complexing with metal ion-complexing zinc fingers. The invention further provides for methods for inactivating a virus, such as HIV, using these compounds, and thereby also inhibiting transmission of the virus.

The prospective exclusive license will be royalty-bearing and will comply with the terms and conditions of 35 U.S.C. 209 and 37 CFR 404.7. The prospective exclusive license may be granted unless, within 60 days from the date of this published Notice, NIH receives written evidence and argument that establishes that the grant of the license would not be consistent with the requirements of 35 U.S.C. 209 and 37 CFR 404.7.

The field of use may be limited to the use of novel thiolesters of the invention for therapeutic and diagnostic uses for anti-viral and anti-retroviral (including anti-HIV/AIDS), anti-tumor, anti-parasitic (e.g., malaria), anti-bacterial, and anti-fungal applications, as well as for agricultural uses (e.g., insecticidal use).

Properly filed competing applications for a license filed in response to this notice will be treated as objections to the contemplated license. Comments and objections submitted in response to this notice will not be made available for public inspection, and, to the extent permitted by law, will not be released under the Freedom of Information Act (FOIA), 5 U.S.C. 552.

Dated: April 13, 2000.
Jack Spiegel,
Director, Division of Technology Development and Transfer, Office of Technology Transfer.

[FR Doc. 00-9809 Filed 4-18-00; 8:45 am]

BILLING CODE 4140-01-P]